FEDERAL COMMUNICATIONS COMMISSION

Notice of Public Information Collection Approved by the Office of Management and Budget

AGENCY: Federal Communications Commission.

ACTION: Notice of public information collection approved by the Office of Management and Budget.

SUMMARY: The Federal Communications Commission has received the Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number.

FOR FURTHER INFORMATION CONTACT: Jane C. Kelly, Jane.Kelly@fcc.gov, or by phone on (202) 418-2832.

SUPPLEMENTARY INFORMATION: OMB Control Number: 3060-1003.

OMB Approval Date: June 8, 2012.

Expiration Date: June 30, 2015.

Title: Communications Disaster Information Reporting System (DIRS).

Form No.: Not applicable.

Number of Respondents/Responses: 6,750 respondents; 6,750 responses.

Estimated Time per Response: 0.1-0.50 hours.

Total Annual Burden: 4,725.

Total Annual Cost: None.

Obligation To Respond: Voluntary. The statutory authority for this collection is contained in 47 U.S.C. 154(i), 218, 303(r) of the Communications Act of 1934, as amended.

Nature and Extent of Confidentiality: The Commission acknowledges and agrees that is consistent with the primary objective of the DIRS to treat filings as confidential. We will work with respondents to ensure that their concerns regarding the confidentiality of DIRS filings are resolved in a manner consistent with Commission rules.

Needs and Uses: The Commission submitted this information collection to the Office of Management and Budget (OMB) as a revision and received a three year approval from OMB for the collection.

In response to the events of September 11, 2001, the Federal Communications Commission (Commission or FCC) created an Emergency Contact Information System to assist the Commission in ensuring rapid restoration of communications capabilities after disruption by a terrorist threat or attack, and to ensure that public safety, public health, and other emergency and defense personnel have effective communications services available to them in the immediate aftermath of any terrorist attack within the United States. The Commission submitted, and OMB approved, a collection through which key communications providers could voluntarily provide contact information.

The Commission's Public Safety and Homeland Security Bureau (PSHSB) updated the Emergency Contact Information system with a Disaster Information Reporting System (DIRS) that uses electronic forms to collect Emergency Contact Information forms and through which participants may inform the Commission of damage to communications infrastructure and facilities and may request resources for restoration. The Commission updated the process by increasing the number of reporting entities to ensure inclusion of wireless, wireline, broadcast, cable and satellite communications providers.

In recent years, communications have evolved from a circuit-switched network infrastructure to broadband networks. The Commission is seeking to extend the Disaster Information Reporting System to include interconnected Voice over Internet Protocol and broadband Internet Service Providers. Increasing numbers of consumers, businesses, and government agencies rely on broadband and interconnected VoIP services for everyday and emergency communications needs, including vital 9-1-1 services. It is therefore imperative that the Disaster Information Reporting System be expanded to include these new technologies in order for the Commission the gain an accurate picture of communications landscape during disasters. Therefore, the Commission has revised its DIRS screen shots and is including a copy of the DIRS user manual for which the Commission has received OMB approval on June 8, 2012.

Federal Communications Commission.
Marlene H. Dortch,
Secretary.

[FR Doc. 2012-15589 Filed 6-25-12; 8:45 am]

BILLING CODE 6712-01-P